DEPARTMENT OF THE TREASURY

Office of Foreign Assets Control

Notice of OFAC Sanctions Actions

SUB-AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for applicable date.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On April 18, 2018, OFAC determined that the property and interests in property subject to U.S. jurisdiction of the following persons are blocked under the relevant sanctions authority listed below.

Individual

1. BARAKAT, Nasif (a.k.a. ABOUTARIF, Nassif; a.k.a. BARAKAT AL FAHILIH, Nasif Jarjis; a.k.a. BARAKAT ALVAHILH, Nasif Gergers; a.k.a. BARAKAT, Nassif; a.k.a. BARKAT, Nasif; a.k.a. BARKAT, Nassif; a.k.a. TARIF, Abu), Fahel, Syria; Germana, Damascus, Syria; Al-Qassaa, Damascus, Syria; Al Fuhaylah, Homs, Syria; DOB 20 Jun 1971; alt. DOB 30 Nov 1970; citizen Syria; Gender Male; National ID No. 04010136281 (Syria) (individual) [TCO] (Linked To: BARAKAT TRANSNATIONAL CRIMINAL ORGANIZATION).

Designated pursuant to section 1(a)(ii)(B) of Executive Order 13581 of July 25, 2011, “Blocking Property of Transnational Criminal Organizations” (E.O. 13581) for having materially assisted, sponsored, or provided financial, material, or technological support for, or goods or services to or in support of, the BARAKAT TCO, a person determined to be subject to E.O. 13581.

Also designated pursuant to section 1(a)(ii)(C) of E.O. 13581 for having acted or purported to act for or on behalf of, directly or indirectly, the BARAKAT TCO.

Entity

1. BARAKAT TRANSNATIONAL CRIMINAL ORGANIZATION (a.k.a. NASIF BARAKAT ALIEN SMUGGLING ORGANIZATION), Syria; Lebanon; United Arab Emirates; Turkey; Brazil; Colombia; Guatemala; Venezuela; Panama; Mexico [TCO].

Designated pursuant to section 1(a)(ii)(A) of E.O. 13581 for being a foreign person that constitutes a significant transnational criminal organization.

Dated: April 18, 2018.
John E. Smith,
Director, Office of Foreign Assets Control.

[FR Doc. 2018-08423 Filed 4-23-18; 8:45 am]

BILLING CODE 4810-AL-P